DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on December 4, 2001, at Redding, California. The purpose of the meeting is a field trip to Iron Canyon to review fuel reduction activities in a Late Successional Reserve in keeping with the Northwest Forest Plan direction.

DATES: The meeting will be held December 4, 2001.

ADDRESSES: The meeting will be held at Forest Service Headquarters, 2400 Washington Ave., Redding, CA.

FOR FURTHER INFORMATION CONTACT: Jackie Riley, Committee Coordinator, USDA, Shasta-Trinity National Forest, 2400 Washington Ave., Redding, CA, 96001 (530) 242-2203; e-mail: jriley01@fs.fed.us.

SUPPLEMENTARY INFORMATION: This meeting is open to the public. Public input opportunity will be provided and individuals will have the opportunity to address the Committee at that time. Support staff workloads resulted in a shorter than normal notice period.

Dated: November 16, 2001.
J. Sharon Heywood,
Forest Supervisor.

[FR Doc. 01-29214 Filed 11-21-01; 8:45 am]

BILLING CODE 3410-FK-M